DEPARTMENT OF LABOR

Proposed Information Collection Request for Migrant and Seasonal Farmworkers (MSFWs) Monitoring Report and One-Stop Career Center Complaint/Referral Record: Comment Request for Extension Without Revision

AGENCY: Employment and Training Administration.

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed three year extension without revision of the Services to Migrant and Seasonal Farm Workers Report, ETA Form 5148, and the One-Stop Career Center Complaint/Referral Record, ETA Form 8429 beyond November 30, 2008. The current Office of Management and Budget (OMB) Information Collection Request (ICR) authorization number 1205-0039 expires on November 30, 2008. A copy of the proposed ICR can be obtained by contacting the office listed below in the addressee section of this notice or by accessing: http://www.doleta.gov/OMBCN/OMBControlNumber.cfm.

DATES: Submit comments on or before September 2, 2008.

ADDRESSES: Send written comments to: Alina Walker, U.S. Department of Labor, Employment and Training Administration, Office of Workforce Investment, Division of Adult Services, Migrant and Seasonal Farmworkers Program, Room S-4209, 200 Constitution Avenue, NW., Washington, DC 20210. Telephone number: 202-693-2706, fax: 202-693-3587, and e-mail address: walker.alina@dol.gov.

FOR FURTHER INFORMATION CONTACT: Juan Regalado, U.S. Department of Labor, Employment and Training Administration, Office of Workforce Investment, Division of Adult Services, Room S-4209, 200 Constitution Avenue, NW., Washington, DC 20210. Telephone number: 202-693-2661, fax: 202-693-3945, and e-mail address: regalado.juan@dol.gov.

SUPPLEMENTARY INFORMATION:

I. Background

The regulations at 20 CFR 651, 653, and 658 under the Wagner Peyser Act, as amended by the Workforce Investment Act (WIA) of 1998, set forth requirements to ensure that Migrant and Seasonal Farmworkers (MSFWs) receive services that are qualitatively equivalent and quantitatively proportionate to the services provided to non-MSFWs. In compliance with 20 CFR 653.109, DOL established record keeping requirements to allow for the efficient and effective monitoring of State Workforce Agencies' (SWAs) regulatory compliance. The ETA Form 5148, Services to Migrant and Seasonal Farm Workers Report, is used to collect data which are primarily used to monitor and measure the extent and effectiveness of SWA service delivery to MSFWs. The ETA Form 8429, One-Stop Career Center Compliant Referral Record, is used to collect and document complaints filed by MSFWs and non-MSFWs pursuant to the regulatory framework established at 20 CFR 658.400.

II. Desired Focus of Comments

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond by including the use of appropriate automated, electronic, mechanical, or other technological collection techniques or other forms of information technology, e.g., permitting electronic submissions of responses.

III. Current Actions:

Type of Review: Extension without revision of a currently approved collection.

Agency: Employment and Training Administration.

Title: Migrant and Seasonal Farmworker (MSFW) Monitoring Report and One-Stop Career Center Complaint/Referral Record.

OMB Number: 1205-0039.

Affected Public: State governments.

Type of Response: Mandatory for ETA-5148 and voluntary for ETA-8429.

Number of Respondents: 52.

Annual Responses: 208.

Breakdown of Burden Hours: (See below.)

Complaint Form 8429

1. Recordkeeping

Number of record-keepers: 639.

Annual hours per record: .5 (thirty minutes).

Record-keeper hours: 324.

2. Reporting

Annual number of forms: 2,142.

Minutes per form: 8.

Processing hours: 286.

5148 Report

1. Recordkeeping

Number of record-keepers: 639.

Annual hours per record-keeper: 1.12.

Record-keeper hours: 713.

2. Reporting

Number of Respondents: 52.

Annual number of reports: 4.

Total number of reports: 208.

Minutes per report: 70.

Reporting hours: 243.

Estimated Total Burden Hours: 1,566.

Total Burden Cost (operating/maintaining): $0.

Comments submitted in response to this notice will be summarized and/or included in the request for Office of Management and Budget approval of the information collection request; they will also become a matter of public record.

Dated: At Washington, DC, this 23rd day of June 2008.
Gay M. Gilbert,
Administrator, Office of Workforce Investment, Employment and Training Administration.

[FR Doc. E8-14856 Filed 6-30-08; 8:45 am]

BILLING CODE 4510-FN-P